DEPARTMENT OF COMMERCE

National Oceanic and Atmospheric Administration (NOAA)

Marine Protected Areas Federal Advisory Committee; Public Meeting

AGENCY: Office of National Marine Sanctuaries (ONMS), National Ocean Service (NOS), National Oceanic and Atmospheric Administration (NOAA), Department of Commerce (DOC).

ACTION: Notice of open meeting.

SUMMARY: Notice is hereby given of a meeting of the Marine Protected Areas Federal Advisory Committee (Committee) in Santa Cruz, California.

DATES: The meeting will be held Tuesday, December 5, 2012, from 9 a.m. to 5 p.m., Wednesday, December 6, from 8:30 a.m. to 4:30 p.m., and Thursday, December 7, from 8:30 a.m. to 2 p.m. These times and the agenda topics described below are subject to change. Refer to the web page listed below for the most up-to-date meeting agenda.

ADDRESSES: The meeting will be held at the Hotel Paradox, 611 Ocean Street, Santa Cruz, CA, 95060.

FOR FURTHER INFORMATION CONTACT: Kara Yeager, Designated Federal Officer, MPA FAC, National Marine Protected Areas Center, 1305 East West Highway, Silver Spring, Maryland 20910. (Phone: 301-713-7242, Fax: 301-713-3110); email: kara.yeager@noaa.gov; or visit the National MPA Center Web site at http://www.mpa.gov).

SUPPLEMENTARY INFORMATION: The Committee, composed of external, knowledgeable representatives of stakeholder groups, was established by the Department of Commerce (DOC) to provide advice to the Secretaries of Commerce and the Interior on implementation of Section 4 of Executive Order 13158, which calls for the development of a National System of Marine Protected Areas (MPAs). The National System aims to strengthen existing MPAs and MPA programs through national and regional coordination, capacity building, science and analysis. The meeting is open to the public, and public comment will be accepted from 4:15 p.m. to 5 p.m. on Tuesday, November 15, 2011. In general, each individual or group will be limited to a total time of five (5) minutes. If members of the public wish to submit written statements, they should be submitted to the Designated Federal Official by November 30, 2012.

Matters to be Considered: The focus of the Committee's meeting will be the development of workplans by the Subcommittees (Jobs, Recreation and Tourism Subcommittee and Stakeholder Engagement Subcommittee) to address the Committee's charge. The Committee will also hear from two panels of experts: One on successful ocean engagement initiatives, and one from MPA managers on engaging with the travel, recreation and tourism industries. On Wednesday, December 5, the Committee will meet with representatives from National Marine Sanctuary Advisory Councils to discuss fostering links between MPAs and the recreation, travel and tourism industries. The agenda is subject to change. The latest version will be posted at http://www.mpa.gov.

Dated: November 8, 2012.
Daniel J. Basta,
Director, Office of National Marine Sanctuaries, National Ocean Service, National Oceanic and Atmospheric Administration.

[FR Doc. 2012-27735 Filed 11-14-12; 8:45 am]

BILLING CODE 3510-NK-P